FEDERAL ENERGY REGULATORY COMMISSION

[Docket Nos. CP11-33-000; PF10-15-000]

Leader One Energy, LLC; Notice of Application

November 23, 2010

Take notice that on November 15, 2010, Leader One Energy, LLC (Leader One), 4643 South Ulster Street, Suite 1100, Denver, Colorado 80237, filed in Docket No. CP11-33-000 an application pursuant to Section 7(c) of the Natural Gas Act (NGA) seeking authorization to construct and operate the Leader One Gas Storage Project in Adams County, Colorado. Specifically, Leader One requests authorization to: (1) Convert a depleted natural gas field to storage; (2) construct a new 18,000 horsepower (hp) compressor station comprising of four 4,500 hp electric driven compressors; and (3) construct a 22.4 mile header to interconnect with Colorado Interstate Gas Company. Additionally, Leader One requests a blanket certificates pursuant to parts 157 and 284 of the commission's regulations and authorization to provide storage and hub services at market based rates, all as more fully set forth in the application, which is on file with the Commission and open to public inspection. This filing may also be viewed on the web at http://www.ferc.gov using the “eLibrary” link. Enter the docket number excluding the last three digits in the docket number field to access the document. For assistance, contact FERC at FERCOnlineSupport@ferc.gov or call toll-free, (886) 208-3676 or TYY, (202) 502-8659.

Any questions regarding the application should be directed to Joseph S. Koury, Wright & Talisman, PC, 1200 G Street, NW., Suite 600, Washington, DC 20005, at (202) 393-1200 or koury@wrightlaw.com.

On March 31, 2010, the Commission staff granted Leader One's March 26, 2010, request to use the pre-filing process and assigned Docket No. PF10-15-000 for this proceeding during the pre-filing review of the Leader One Gas Storage Project. Now, as of the filing of Leader One's application on November 15, 2010, the pre-filing process for this project has ended. From this time forward, Leader One's proceeding will be conducted in Docket No. CP11-33-000, as noted in the caption of this Notice.

Pursuant to section 157.9 of the Commission's regulations, 18 CFR 157.9, within 90 days of this Notice, the Commission's staff will either complete its environmental assessment (EA) and place it into the Commission's public record (eLibrary) for this proceeding; or issue a Notice of Schedule for Environmental Review. If a Notice of Schedule for Environmental Review is issued, it will indicate, among other milestones, the anticipated date for the Commission's staff issuance of the EA for this proposal. The filing of the EA in the Commission's public record for this proceeding or the issuance of a Notice of Schedule for Environmental Review will serve to notify federal and state agencies of the timing for the completion of all necessary reviews, and the subsequent need to reach a final decision on a request for federal authorization within 90 days of the date of issuance of the Commission staff's EA.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission strongly encourages electronic filings of comments, protests and interventions in lieu of paper using the “eFiling” link at http://www.ferc.gov. Persons unable to file electronically should submit an original and 14 copies of the protest or intervention to the Federal Energy Regulatory Commission, 888 First Street, NE., Washington, DC 20426. See, 18 CFR 385.2001(a)(1)(iii) and the instructions on the Commission's Web site under the “e-Filing” link.

Comment Date: December 14, 2010.

Kimberly D. Bose,
Secretary.

[FR Doc. 2010-30154 Filed 11-30-10; 8:45 am]

BILLING CODE 6717-01-P